DEPARTMENT OF COMMERCE

International Trade Administration

[A-570-848]

Freshwater Crawfish Tail Meat From the People's Republic of China: Notice of Extension of Time Limit for the Final Results of the 2005-2006 Antidumping Duty Administrative Review and 2005-2006 New Shipper Reviews

AGENCY: Import Administration, International Trade Administration, Department of Commerce

EFFECTIVE DATE: February 1, 2008.

FOR FURTHER INFORMATION CONTACT: Melissa Blackledge or Jeff Pedersen, AD/CVD Operations, Office 4, Import Administration, International Trade Administration, U.S. Department of Commerce, 14th Street and Constitution Avenue, NW, Washington, DC 20230; telephone (202) 482-3518 and (202) 482-2769, respectively.

SUPPLEMENTARY INFORMATION:

Background

On October 30, 2006, the Department of Commerce (“Department”) published a notice of initiation of four new shipper reviews of the antidumping duty order on freshwater crawfish tail meat from the People's Republic of China (“PRC”). See Freshwater Crawfish Tail Meat From the People's Republic of China: Initiation of Antidumping Duty New Shipper Reviews, 71 FR 63284 (October 30, 2006). On October 31, 2006, the Department of Commerce (“Department”) published a notice of initiation of administrative review of the antidumping duty order on freshwater crawfish tail meat from the PRC. See Initiation of Antidumping and Countervailing Duty Administrative Reviews, 71 FR 63752 (October 31, 2006). On March 23, 2007, the Department aligned the time limits in the new shipper reviews with the time limits in the administrative review. See Freshwater Crawfish Tail Meat From the People's Republic of China: Notice of Postponement of Time Limits for New Shipper Antidumping Duty Reviews in Conjunction With Administrative Review, 72 FR 13744 (March 23, 2007). On October 9, 2007, the Department published the preliminary results. See Freshwater Crawfish Tail Meat From the People's Republic of China: Preliminary Results and Partial Rescission of the 2005-2006 Antidumping Duty Administrative Review and Preliminary Intent to Rescind 2005-2006 New Shipper Reviews, 72 FR 57288 (October 9, 2007). These reviews cover the period September 1, 2005, through August 31, 2006. The final results of the administrative review and the new shipper reviews are currently due by February 6, 2008.

Extension of Time Limit for Final Results of Reviews

Pursuant to section 751(a)(3)(A) of the Tariff Act of 1930, as amended (“the Act”), the Department shall make a final determination in an administrative review of an antidumping duty order within 120 days after the date on which the preliminary results were published. The Act further provides, however, that the Department may extend that 120-day period to 180 days after publication of the preliminary results if it determines it is not practicable to complete the review within the foregoing time period.

The Department finds that it is not practicable to complete the final results of the administrative review and new shipper reviews of freshwater crawfish tail meat from the PRC within the 120-day period because it requires additional time to analyze a complicated sales reporting issue. In accordance with section 751(a)(3)(A) of the Act, the Department is fully extending the time period for completion of the final results of these reviews by 60 days to 180 days after the date on which the preliminary results were published. Therefore, the final results are now due no later than April 6, 2008. However, as that date falls on a Sunday, the final results will be due no later than the next business day, Monday, April 7, 2008.

This notice is published in accordance with sections 751(a)(3)(A) and 777(i) of the Act and 19 CFR 351.213(h)(2).

Dated: January 25, 2008.
Stephen J. Claeys,
Deputy Assistant Secretary for Import Administration.

[FR Doc. E8-1910 Filed 1-31-08; 8:45 am]

BILLING CODE 3510-DR-S